INTERNATIONAL TRADE COMMISSION

[Inv. No. 337-TA-720]

In the Matter of Certain Biometric Scanning Devices, Components Thereof, Associated Software, and Products Containing The Same; Notice of Commission Determination Not To Review an Initial Determination Granting Complainant's Motion To Amend the Complaint; Amendment of Notice of Investigation

AGENCY: U.S. International Trade Commission.

ACTION: Notice.

SUMMARY: Notice is hereby given that the U.S. International Trade Commission has determined not to review an initial determination (“ID”) (Order No. 12) of the presiding administrative law judge (“ALJ”) granting complainant's motion to amend the complaint. The Commission has also amended the notice of investigation.

FOR FURTHER INFORMATION CONTACT: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On June 17, 2010, the Commission instituted an investigation under section 337 of the Tariff Act of 1930, 19 U.S.C. 1337, based on a complaint filed by Cross Match Technologies, Inc. of Palm Beach Gardens, Florida (“Cross Match”) alleging a violation of section 337 in the importation, sale for importation, and sale within the United States after importation of certain biometric scanning devices, components thereof, associated software, and products containing the same by reason of infringement of certain claims of U.S. Patent Nos. 5,900,993; 6,483,932; 7,203,344 (“the ‘344 patent”); and 7,277,562 (“the ‘562 patent”). 75 FR. 34482 (Jun. 17, 2010). Complainant Cross Match Technologies, Inc. of Palm Beach Gardens, Florida (“Cross Match”) named Suprema, Inc. of Gyeonggi-Do, Korea and Mentalix, Inc. of Plano, Texas as respondents.

On September 27, 2010, complainant Cross Match moved to amend the complaint to add allegations of infringement by respondents of claims 5, 6, 12, and 30 of the ‘562 patent and claims 7, 15, 19, and 45 of the ‘344 patent.

On October 14, 2010, the ALJ issued Order No. 12 granting complainant's motion. No party petitioned for review of the subject ID. The Commission has determined not to review the ID. The Commission has similarly amended the notice of investigation.

The authority for the Commission's determination is contained in section 337 of the Tariff Act of 1930, as amended (19 U.S.C. 1337), and in section 210.42(h) of the Commission's Rules of Practice and Procedure (19 CFR 210.42(h)).

By order of the Commission.
Issued: November 10, 2010.
Marilyn R. Abbott,
Secretary to the Commission.

[FR Doc. 2010-28987 Filed 11-16-10; 8:45 am]

BILLING CODE 7020-02-P